ENVIRONMENTAL PROTECTION AGENCY

[FRL-9974-89—Region 8]

Settlement Agreement and Order on Consent: Gilt Edge Mine Superfund Site, Lead, Lawrence County, South Dakota

AGENCY: Environmental Protection Agency (EPA).

ACTION: Notice of proposed agreement; request for public comment.

SUMMARY: In accordance with the requirements of the Comprehensive Environmental Response, Compensation, and Liability Act of 1980, as amended (“CERCLA”), notice is hereby given of the proposed settlement under CERCLA, between the U.S. Environmental Protection Agency (“EPA”), the State of South Dakota (“State”), and Agnico Eagle Mines Limited (“Lessee”). The proposed Settlement Agreement provides for the performance of work by Lessee and the payment of certain response costs incurred by the United States. The Lessee consents to and will not contest the authority of the United States to enter into the Agreement or to implement or enforce its terms. The State and Lessee recognize that the Agreement has been negotiated in good faith and that the Agreement is entered into without the admission or adjudication of any issue of fact or law.

DATES: Comments must be submitted on or before April 2, 2018. For thirty (30) days following the date of publication of this notice, the Agency will receive written comments relating to the agreement. The Agency will consider all comments received and may modify or withdraw its consent to the agreement if comments received disclose facts or considerations that indicate that the agreement is inappropriate, improper, or inadequate.

ADDRESSES: The proposed agreement and additional background information relating to the agreement, as well as the Agency's response to any comments are or will be available for public inspection at the EPA Superfund Record Center, 1595 Wynkoop Street, Denver, Colorado, by appointment. Comments and requests for a copy of the proposed agreement should be addressed to Shawn McCaffrey, Enforcement Specialist, Environmental Protection Agency—Region 8, Mail Code 8ENF-RC, 1595 Wynkoop Street, Denver, Colorado 80202-1129, and should reference the Gilt Edge Mine Superfund Site, EPA Docket No. CERCLA-08-2018-0004.

FOR FURTHER INFORMATION CONTACT: Amelia Piggott, Enforcement Attorney, Legal Enforcement Program, Environmental Protection Agency—Region 8, Mail Code 8ENF-L, 1595 Wynkoop Street, Denver, Colorado 80202, (303) 312-6410.

Dated: February 15, 2018.
Suzanne Bohan,
Assistant Regional Administrator, Office of Enforcement, Compliance and Environmental Justice, U.S. Environmental Protection Agency, Region VIII.

[FR Doc. 2018-04189 Filed 2-28-18; 8:45 am]

BILLING CODE 6560-50-P